DEPARTMENT OF THE INTERIOR

Bureau of Land Management

[CO-930;1430-ET; COC-1661]

Notice of Meeting on Proposed Withdrawal; Browns Park Expansion; Colorado

AGENCY: Bureau of Land Management, Interior.

ACTION: Notice of Public Meeting.

SUMMARY: This notice sets forth the schedule and agenda for a forthcoming meeting on the Fish and Wildlife Service proposal for expansion of the Browns Park National Wildlife Refuge. This meeting will provide the opportunity for public involvement concerning this proposed action as required by regulation. All comments will be considered when a final determination is made on whether this land should be withdrawn.

DATES: Meeting will be held on Tuesday, November 28, 2000, from 12:00 a.m. until 4:00 p.m. This will be an open house type of meeting with representatives of Fish and Wildlife Service and of the Bureau of Land Management to answer questions and accept written or oral comments or objections.

ADDRESSES: The meeting will be held at the Craig City Hall, 300 W. 4th Street, Craig, Colorado 81625.

FOR FURTHER INFORMATION CONTACT: Doris E. Chelius, BLM Colorado State Office, (303) 239-3706.

SUPPLEMENTARY INFORMATION: The Notice of Proposed Withdrawal for the Browns Park National Wildlife Expansion which was published in the Federal Register on July 11, 2000, (65 FR 42720, 42721), is hereby modified to schedule a public meeting as provided by 43 U.S.C. 1714, and 43 CFR 2310.

This meeting will be open to all interested persons, those who desire to be heard in person and those who desire to submit written comments on this subject. Comments can also be submitted to the Colorado State Director, Bureau of Land Management, 2850 Youngfield Street, Lakewood, Colorado 80215-7093.

Herbert K. Olson,
Acting Realty Officer.

[FR Doc. 00-27114 Filed 10-20-00; 8:45 am]

BILLING CODE 4310-JB-P